DEPARTMENT OF AGRICULTURE

Natural Resources Conservation Service

Little Reed Island Creek Watershed, Carroll, Pulaski and Wythe Counties, VA

AGENCY: Natural Resources Conservation Service, Department of Agriculture.

ACTION: Notice of a finding of no significant impact.

SUMMARY: Pursuant to section 102(2)(C) of the National Environmental Policy Act of 1969; the Council on Environmental Quality Guidelines (40 CFR part 1500); and the National Resources Conservation Service Guidelines (7 CFR part 650); the Natural Resources Conservation Service, U.S. Department of Agriculture, gives notice that an Environmental Impact Statement is not being prepared for the Little Reed Island Creek Watershed in Carroll, Pulaski and Wythe Counties and the Town of Hillsville, Virginia.

FOR FURTHER INFORMATION CONTACT: M. Denise Doetzer, State Conservationist, USDA, Natural Resources Conservation Service, Culpeper Building, Suite 209, 1606 Santa Rosa Road, Richmond, Virginia 23229-5014, telephone (804) 287-1691.

SUPPLEMENTARY INFORMATION: The Environmental Assessment of this federally assisted action provides evidence that the project will not cause significant local, regional, or national impacts on the environment. As a result of these findings, M. Denise Doetzer, State Conservationist, has issued a Finding of No Significant Impact and determined that the preparation and review of an Environmental Impact Statement are not needed for this project.

The project purposes are to improve water quality, improve fish and wildlife habitat, and reduce on-farm damages caused by excessive erosion and sedimentation. The planned works of improvement include the installation of 15,569 acres of conservation practices on pastureland, hayland, cropland, woodland and riparian zone land in the Little Reed Island Creek Watershed in Carroll, Pulaski, and Wythe Counties and the Town of Hillsville, Virginia. The watershed protection will be accomplished by the installation of soil and water conservation practices on private lands.

The Notice of Finding of No Significant Impact (FONSI) has been forwarded to the Environmental Protection Agency and to various Federal, State and local agencies and interested parties. A limited number of copies of the FONSI are available to fill single-copy requests at the above address. Basic data developed during the Environmental Assessment are on file and may be reviewed by contacting M. Denise Doetzer, State Conservationist.

No administrative action on implementation of the proposed will be taken until 30 days after the date of this publication in the Federal Register.

(This activity is listed in the Catalog of Federal Domestic Assistance under No. 10.901, Watershed and Flood Prevention, and is subject to the provisions of Executive Order 12372, which requires intergovernmental consultation with State and local officials.)
M. Denise Doetzer,
State Conservationist.

[FR Doc. 01-17512 Filed 7-12-01; 8:45 am]

BILLING CODE 3410-16-M